UNIFIED CARRIER REGISTRATION PLAN

Sunshine Act Meeting Notice; Unified Carrier Registration Plan Board of Directors Meeting

TIME AND DATE: November 5, 2020, from Noon to 3:00 p.m., Eastern time.

PLACE: This meeting will be accessible via conference call and screen sharing. Any interested person may call 877-853-5247 (US toll free), 888-788-0099 (US toll free), +1 929-205-6099 (US toll), or +1 669-900-6833 (US toll), Conference ID 925 8091 3586, to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

Agenda will be reviewed and the Board will consider adoption.

Ground Rules

➢ Board actions taken only in designated areas on agenda

IV. Approval of Minutes of the October 8, 2020 UCR Board Meeting—UCR Board Chair

For Discussion and Possible Action

Draft Minutes of the October 8, 2020 UCR Board meeting will be reviewed. The Board will consider action to approve.

V. Report of FMCSA—FMCSA Representative

The Federal Motor Carrier Safety Administration (FMCSA) will provide a report on any relevant activity.

VI. Updates Concerning UCR Legislation—UCR Board Chair

The UCR Board Chair will call for any updates regarding UCR legislation since the last Board meeting.

VII. Chief Legal Officer Report—UCR Chief Legal Officer

The UCR Chief Legal Officer will provide an update on the status of the March 2019 data event, the Twelve Percent Logistics litigation, several cease and desist letters sent to third party permitting service providers, and other matters.

VIII. Amendment to UCR Agreement—UCR Executive Director

For Discussion and Possible Action

The UCR Executive Director will discuss a proposal to change the UCR Agreement to reflect the language of the UCR Handbook on the issue of International Registration Plan (IRP) vehicle plates equating to the number of vehicles counting towards a carrier's fleet for the purpose of calculating its UCR fee. The UCR Agreement currently states that “IRP plates cannot be excluded from the vehicle count.” UCR Agreement, Section 10(e)(5)(i). The UCR Handbook adopted by the Board at the October 8, 2020 Board meeting states [that there is] “a very strong presumption that a vehicle registered under IRP is countable towards a carrier's fleet for purposes of calculating its UCR fee.” UCR Handbook, Effect of IRP Registration, page 26. The Board may take action to change the UCR Agreement to mirror the language of the UCR Handbook as discussed above.

IX. Subcommittee Reports

Audit Subcommittee—UCR Audit Subcommittee Chair

A. Tracking of Audit Data in the National Registration System (NRS)—UCR Audit Subcommittee Chair

For Discussion and Possible Action

The UCR Audit Subcommittee Chair will discuss the merits of the Audit Subcommittee having an oversight role in the audit notes on closed Focused Anomaly reviews (FARs) and MCS-150 retreat audits when there is an indication of an error or insufficient documentation to close the audit. The Board may take action to authorize the Audit Subcommittee having an oversight role regarding audit notes. The Audit Subcommittee recommends that the Board adopt this action. The Board may take action to approve the Audit Subcommittee's recommendation.

B. State Compliance Reviews—UCR Depository Manager

For Discussion and Possible Action

The UCR Depository Manager will discuss plans for completing state compliance reviews for calendar year 2020 and make recommendations for the eight state compliance reviews planned for calendar year 2021. The Board may take action to approve the compliance reviews planned for calendar year 2021.

C. Update on the 2020 New Entrant and Unregistered Solicitation Campaigns—Seikosoft

Seikosoft will provide an updated report on new entrant motor carrier campaigns managed by the National Registration System (NRS), new entrant motor carrier campaigns managed by the states, unregistered motor carrier campaigns managed by the NRS, and unregistered motor carrier campaigns managed by the states.

D. Update on the Non-Universe Motor Carrier Solicitation Campaigns—Seikosoft

Seikosoft will provide an updated report on the solicitation campaign targeting motor carriers identified through roadside inspections to be operating in interstate commerce but identified in the Motor Carrier Management Information System (MCMIS) as either intrastate or inactive.

E. Update to the Unregistered Carrier List for 2019 Potentially Containing Private Passenger and Intrastate Motor Carriers—Seikosoft

Seikosoft will provide an update on the potential for the Unregistered Carrier List to contain private passengers and intrastate motor carriers that changed their carrier status to interstate during calendar year 2020.

F. Update on Unregistered Brokers—Seikosoft/UCR Audit Subcommittee Chair

The UCR Audit Subcommittee Chair and Seikosoft will discuss the challenges of unregistered Brokers on UCR enforcement. The discussion will regard jurisdiction and other challenges, and may also include dialogue regarding successes and ideas for addressing the issue.

Finance Subcommittee—UCR Finance Subcommittee Chair

A. Review UCR Bank Balance Summary Report—UCR Finance Subcommittee Chair/UCR Depository Manager

The UCR Finance Subcommittee Chair and the UCR Depository Manager will review the UCR Bank Balance Summary Report and answer questions from the Board.

B. Discuss the Proposed Schedule for Distributions From the Depository for the 2021 Registration Year—UCR Depository Manager

The UCR Depository Manager will discuss the proposed schedule for the Depository to make distributions to states that have not yet achieved their revenue entitlements for the 2021 registration year.

C. Certificates of Deposit—UCR Depository Manager

The UCR Depository Manager will provide an update on investing funds from the 2019 Savings Account held at the Bank of North Dakota in short-term certificates of deposit, not to exceed six months in duration.

D. Review 2020 Administrative Expenses Through October 31, 2020—UCR Depository Manager

The UCR Depository Manager will present the administrative costs incurred for the period of January 1, 2020 through October 31, 2020, compared to the budget for the same time-period, and discuss all significant variances.

E. Status of 2020 and 2021 Registration Years Fee Collections and Compliance Percentages—UCR Depository Manager

The UCR Depository Manager will provide an initial update on the results of collections and registration compliance rates for the 2020 and 2021 registration years.

Education and Training Subcommittee—UCR Education and Training Subcommittee Chair

Update on Basic Audit Training Module and Flow Chart/Decision Tree—UCR Education and Training Subcommittee Chair

The UCR Education and Training Subcommittee Chair will provide an update on the development of the Basic Audit Training Module and Flow Chart/Decision Tree.

X. Contractor Reports—UCR Executive Director

• UCR Executive Director

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the NRS.

• UCR Administrator Report (Kellen)—UCR Operations and Depository Managers

The UCR Administrator will provide its management report covering recent activity for the Depository, Operations, and Communications.

XI. Other Business—UCR Board Chair

The UCR Board Chair will call for any business, old or new, from the floor.

XII. Adjournment—UCR Board Chair

The UCR Board Chair will adjourn the meeting.

This agenda will be available no later than 5:00 p.m. Eastern time, October 26, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-24067 Filed 10-27-20; 4:15 pm]

BILLING CODE 4910-YL-P